DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Public Key Infrastructure (PKI) Certificate Action Form.

Form Number(s): PTO-2042.

Agency Approval Number: 0651-0045.

Type of Request: Revision of a currently approved collection.

Burden: 1,383 hours annually.

Number of Respondents: 4,126 responses per year.

Avg. Hours Per Response: The USPTO estimates that it will take the public approximately 30 minutes (0.5 hours) to read the instructions and subscriber agreement, gather the necessary information, prepare the Certificate Action Form, and submit the completed request. The USPTO estimates that it will take the public approximately 10 minutes (0.17 hours) to complete and electronically submit the information required for certificate self-recovery.

Needs and Uses: In support of the Government Paperwork Elimination Act and its own electronic filing initiatives, the USPTO uses Public Key Infrastructure (PKI) technology to support electronic commerce between the USPTO and its customers. In order to access secure online systems offered by the USPTO for transactions such as electronic filing of patent applications and retrieving confidential patent application information, customers must first obtain a digital certificate. The public uses this collection to request a new digital certificate, the revocation of a current certificate, or the recovery of a lost certificate. This collection includes the existing Certificate Action Form (PTO-2042), which is provided by the USPTO to ensure that customers submit the necessary information for processing certificate requests. The USPTO is adding a new electronic Certificate Self-Recovery Form to this collection to enable customers to recover their own lost certificates online.

Affected Public: Individuals or households, businesses or other for-profits, not-for-profit institutions, farms, the Federal Government, and state, local or tribal governments.

Frequency: On occasion.

Respondent's Obligation: Required to obtain or retain benefits.

OMB Desk Officer: David Rostker, (202) 395-3897.

Copies of the above information collection proposal can be obtained by any of the following methods:

• E-mail: Susan.Brown@uspto.gov. Include “0651-0045 copy request” in the subject line of the message.

• Fax: 571-273-0112, marked to the attention of Susan Brown.

• Mail: Susan K. Brown, Records Officer, Office of the Chief Information Officer, Office of Data Architecture and Services, Data Administration Division, U.S. Patent and Trademark Office, PO Box 1450, Alexandria, VA 22313-1450.

Written comments and recommendations for the proposed information collection should be sent on or before December 14, 2005 to David Rostker, OMB Desk Officer, Room 10202, New Executive Office Building, 725 17th Street NW., Washington, DC 20503.

Dated: November 7, 2005.
Susan K. Brown,
Records Officer, USPTO, Office of the Chief Information Officer,Office of Data Architecture and Services, Data Administration Division.

[FR Doc. 05-22529 Filed 11-10-05; 8:45 am]

BILLING CODE 3510-16-P